DEPARTMENT OF TRANSPORTATION

Surface Transportation Board

[STB Finance Docket No. 34419]

The Indiana Rail Road Company—Lease and Operation Exemption—CSX Transportation, Inc.

The Indiana Rail Road Company (INRD), a Class III rail carrier, has filed a verified notice of exemption under 49 CFR 1150.41 et seq., to lease from CSX Transportation, Inc. (CSXT), and operate 1.88 miles of rail line between CSXT milepost 00Q 219.55 and CSXT milepost 00Q 217.67 in or near Bloomington, in Monroe County, IN.¹

¹ INRD indicates that it has entered into a lease agreement with CSXT.

INRD certifies that its projected annual revenues as a result of this transaction will not result in the creation of a Class II or Class I rail carrier. The parties contemplated consummating the transaction on or shortly after January 5, 2004.

If the verified notice contains false or misleading information, the exemption is void ab initio. Petitions to revoke the exemption under 49 U.S.C. 10502(d) may be filed at any time. The filing of a petition to revoke will not automatically stay the transaction.

An original and 10 copies of all pleadings, referring to STB Finance Docket No. 34419, must be filed with the Surface Transportation Board, 1925 K Street, NW., Washington, DC 20423-0001. In addition, a copy of each pleading must be served on John Broadley, 1054 31st Street, NW., Suite 200, Washington, DC 20007.

Board decisions and notices are available on our Web site at www.stb.dot.gov.

Decided: January 6, 2004.
By the Board, David M. Konschnik, Director, Office of Proceedings.
Vernon A. Williams,
Secretary.

[FR Doc. 04-687 Filed 1-13-04; 8:45 am]

BILLING CODE 4915-00-P